DEPARTMENT OF EDUCATION

DEPARTMENT OF HEALTH AND HUMAN SERVICES

Extension of Deadline; Preschool Development Grants—Development Grants and Preschool Development Grants—Expansion Grants

AGENCIES: Department of Education and Department of Health and Human Services.

ACTION: Notice extending deadline date for the FY 2014 grant competitions.

Catalog of Federal Domestic Assistance (CFDA) Number: 84.419A and 84.419B.

SUMMARY: On August 18, 2014, the Departments of Education and Health and Human Services published in the Federal Register (79 FR 48854 and 79 FR 48874) notices inviting applications for new awards for fiscal year 2014 for the Preschool Development Grants—Development and Preschool Development Grants—Expansion Grants programs. The notices established October 14, 2014, as the deadline date for eligible applicants to apply for funding under the programs. On October 9, 2014, the Departments published in the Federal Register (79 FR 61065) a notice extending the deadline for submission to October 15, 2014, after learning that the Grants.gov Web site would be unavailable to applicants on October 11-12, 2014. It appears that some applicants may have encountered technical difficulties in the submission of their applications on October 15, 2014. Therefore, we are extending, to October 24, 2014, the deadline for transmittal of applications.

DATES: Deadline for Transmittal of Applications: October 24, 2014.

FOR FURTHER INFORMATION CONTACT: Rebecca Marek, U.S. Department of Education, 400 Maryland Ave. SW., Room 3E344, Washington, DC 20202-6200. Telephone: 202-260-0968 or by email: PreschoolDevelopmentGrants@ed.gov.

If you use a telecommunications device for the deaf or a text telephone, call, toll free: 1-877-576-7734.

SUPPLEMENTARY INFORMATION: All other information in the August 18, 2014, notices inviting applications for these competitions remains the same, including the application submission instructions.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Program Authority: Sections 14005 and 14006 of the ARRA, as amended by section 1832(b) of division B of the Department of Defense and Full-Year Continuing Appropriations Act, 2011 (Pub. L. 112-10), the Department of Education Appropriations Act, 2012 (title III of division F of Pub. L. 112-74, the Consolidated Appropriations Act, 2012), and the Department of Education Appropriations Act, 2014 (title III of division H of Pub. L. 113-76, the Consolidated Appropriations Act, 2014).

Dated: October 20, 2014.
Deborah S. Delisle,
Assistant Secretary for Elementary and Secondary Education, U.S. Department of Education.
Mark H. Greenberg,
Acting Assistant Secretary for Children and Families, U.S. Department of Health and Human Services.

[FR Doc. 2014-25304 Filed 10-21-14; 4:15 pm]

BILLING CODE 4000-01-P